DEPARTMENT OF COMMERCE

National Telecommunications and Information Administration

First Responder Network Authority Board Meeting

AGENCY: National Telecommunications and Information Administration, U.S. Department of Commerce.

ACTION: Notice of Open Public Meeting.

SUMMARY: This notice announces an open public meeting of the Board of the First Responder Network Authority (FirstNet).

DATES: The meeting will be held on September 25, 2012, from 9 a.m. to 12:30 p.m. Eastern Time.

ADDRESSES: Board members will meet in the Secretary's Conference Room, Herbert C. Hoover Building, U.S. Department of Commerce, 14th and Constitution Avenue NW., Washington, DC.

FOR FURTHER INFORMATION CONTACT: Uzoma Onyeije, Senior Advisor for Public Safety, National Telecommunications and Information Administration, U.S. Department of Commerce, 1401 Constitution Avenue NW., Washington, DC 20230: telephone (202) 482-0016; email uonyeije@ntia.doc.gov. Please direct media inquiries to NTIA's Office of Public Affairs, (202) 482-7002.

SUPPLEMENTARY INFORMATION: Background: The Middle Class Tax Relief and Job Creation Act of 2012 (Act), Public Law 112-96, 126 Stat. 156 (2012), created the First Responder Network Authority (FirstNet) as an independent authority within the National Telecommunications and Information Administration (NTIA). The Act directs FirstNet to establish a single nationwide, interoperable public safety broadband network. The FirstNet Board is responsible for making strategic decisions regarding FirstNet's operations. The FirstNet Board will hold its first public meeting on September 25, 2012.

Matters to Be Considered: The FirstNet Board will adopt its bylaws and make initial organizational decisions. NTIA will post a detailed agenda on its Web site, http://www.ntia.doc.gov, prior to the meeting. The agenda topics are subject to change.

Time and Date: The meeting will be held on September 25, 2012, from 9 a.m. to 12:30 p.m. Eastern Time. The time is subject to change.

Place: Board members will meet in the Secretary's Conference Room, Herbert C. Hoover Building, U.S. Department of Commerce, 14th and Constitution Avenue NW., Washington, DC.

Other Information: The meeting is open to the public and press. The meeting will be webcast. Please refer to NTIA's Web site at http://www.ntia.doc.gov/firstnet-public-meetings for webcast instructions and other information.

Given the space limitations of the Secretary's Conference Room, members of the public who wish to attend the meeting in person will be directed to the Auditorium in the Herbert C. Hoover Building where they can observe the meeting by video. Due to security requirements and to facilitate entry into the building, U.S. nationals must present valid, government-issued photo identification upon arrival. Foreign nationals must contact Uzoma Onyeije at (202) 482-0016 or uonyeije@ntia.doc.gov at least five (5) business days prior to the meeting in order to provide the necessary clearance information, and must present valid, government-issued photo identification upon arrival.

The meeting is accessible to people with disabilities. Individuals requiring accommodations, such as sign language interpretation or other ancillary aids, are asked to notify Uzoma Onyeije, Senior Advisor for Public Safety, at (202) 482-0016 or uonyeije@ntia.doc.gov, at least five (5) business days before the meeting.

Records: NTIA maintains records of all Board proceedings. Board minutes will be available at http://www.ntia.doc.gov/firstnet-public-meetings.

Dated: September 10, 2012.
Kathy D. Smith,
Chief Counsel.

[FR Doc. 2012-22605 Filed 9-12-12; 8:45 am]

BILLING CODE 3510-60-P